DEPARTMENT OF HOMELAND SECURITY

Coast Guard

33 CFR Part 100

[Docket No. USCG-2022-0362]

Special Local Regulations; Marine Events Within the Fifth Coast Guard District

AGENCY: Coast Guard, DHS.

ACTION: Notification of enforcement of regulation.

SUMMARY: The Coast Guard will enforce special local regulations for the Point Pleasant OPA/NJ Offshore Grand Prix from 10 a.m. through 5 p.m. on June 12, 2022, and for the Escape the Cape Swim from 7:30 a.m. through 11 a.m. on June 12, 2022. These actions are necessary to provide for the safety of life on navigable waterways during these events. Our regulation for marine events within the Fifth Coast Guard District identifies the regulated area for these events. During the enforcement periods, the operator of any vessel in the regulated area must comply with directions from the Patrol Commander or any Official Patrol displaying a Coast Guard ensign.

DATES: The regulations in 33 CFR 100.501 will be enforced for the regulated areas listed in Table 1 to Paragraph (i)(1) of § 100.501 for the Point Pleasant OPA/NJ Offshore Grand Prix from 10 a.m. to 5 p.m. on June 12, 2022 and for the Escape the Cape Swim from 7:30 a.m. to 11 p.m. on June 12, 2022.

FOR FURTHER INFORMATION CONTACT: If you have questions about this notification of enforcement, call or email Petty Officer Jennifer Padilla, U.S. Coast Guard, Sector Delaware Bay, Waterways Management Division, telephone 215-271-4814, email Jennifer.l.Padilla@uscg.mil.

SUPPLEMENTARY INFORMATION: The Coast Guard will enforce special local regulations in 33 CFR 100.501 for the regulated areas of the Point Pleasant OPA/NJ Offshore Grand Prix from 10 a.m. to 5 p.m. on June 12, 2022, and of the Escape the Cape Swim from 7:30 a.m. to 11 p.m. on June 12, 2022. These actions are being taken to provide for the safety of life on navigable waterways during these two events. Our regulation for marine events within the Fifth Coast Guard District, § 100.501, specifies the location of the regulated area for the Point Pleasant OPA/NJ Offshore Grand Prix which encompasses portions of Atlantic Ocean off Point Pleasant Beach, NJ and for the Escape the Cape Swim which encompasses portions of the Delaware Bay off Lower Township, NJ. During the enforcement periods, as reflected in § 100.100(g), if you are the operator of a vessel in the regulated area, you must comply with directions from the Patrol Commander or any Official Patrol displaying a Coast Guard ensign.

In addition to this notification of enforcement in the Federal Register, the Coast Guard plans to provide notification of this enforcement period via the Local Notice to Mariners and marine information broadcasts.

Dated: May 19, 2022.
Jonathan D. Theel,
Captain, U.S. Coast Guard, Captain of the Port, Delaware Bay.

[FR Doc. 2022-11371 Filed 5-26-22; 8:45 am]

BILLING CODE 9110-04-P